DEPARTMENT OF HEALTH AND HUMAN SERVICES

National Institutes of Health

National Institute on Alcohol Abuse and Alcoholism; Notice of Meeting

Pursuant to section 10(a) of the Federal Advisory Committee Act, as amended (5 U.S.C. App.), notice is hereby given of the following meeting.

The meeting will be open to the public and will convene by teleconference. The conference call-in number is 866-479-8610 and the access code is 121595. If any special assistance is needed please notify the contact person listed below.

Name of Committee: National Institute on Alcohol Abuse and Alcoholism Special Emphasis Concept Review: Ghrelin Vaccine for Alcohol Use Disorders.

Date: December 15, 2014.

Time: 11:00 a.m. to 12:30 p.m.

Agenda: To provide concept review.

Place: NIAAA, 5635 Fishers Lane, Rockville, MD 20852 (Telephone Conference Call).

Contact Person: Ranga Srinivas, Ph.D., Chief, Extramural Project Review Branch, National Institute on Alcohol Abuse and Alcoholism, NIH, 5365 Fishers Lane, Room 2085, Rockville, MD 20852, (301) 451-2067, srinivar@mail.nih.gov.

This notice is being published less than 15 days prior to the meeting due to the timing limitations imposed by the concept review cycle.

(Catalogue of Federal Domestic Assistance Program Nos. 93.271, Alcohol Research Career Development Awards for Scientists and Clinicians; 93.272, Alcohol National Research Service Awards for Research Training; 92.273, Alcohol Research Programs; 93.891, Alcohol Research Center Grants; 93.701, ARRA Related Biomedical Research and Research Supports Awards, National Institutes of Health, HHS)

Dated: November 26, 2014.
Melanie J. Gray,
Program Analyst, Office of Federal Advisory Committee Policy.

[FR Doc. 2014-28393 Filed 12-1-14; 8:45 am]

BILLING CODE 4140-01-P